DEPARTMENT OF ENERGY

Western Area Power Administration

Desert Southwest Customer Service Region-Rate Order No. WAPA-121

AGENCY: Western Area Power Administration, DOE.

ACTION: Notice of order extending network integration transmission and ancillary services rates.

SUMMARY: This action is to extend the existing Rate Schedules PD-NTS1, INT-NTS1, DSW-SD1, DSW-RS1, DSW-FR1, DSW-EI1, DSW-SPR1, and DSW-SUR1 for the Desert Southwest Customer Service Region (DSW) network integration transmission services (NTS) for the Parker-Davis Project (P-DP) and the Pacific Northwest-Pacific Southwest Intertie Project (Intertie) and ancillary services for the Western Area Lower Colorado control area through March 31, 2006. The additional time is needed to accommodate the extension of the Multi-System Transmission Rate (MSTR) Public Process.

FOR FURTHER INFORMATION CONTACT: Mr. Jack Murray, Rates Team Lead, Desert Southwest Customer Service Region, Western Area Power Administration, P.O. Box 6457, Phoenix, AZ 85005-6457, (602) 605-2442, e-mail jmurray@wapa.gov.

SUPPLEMENTARY INFORMATION: Under the Department of Energy (DOE) Organization Act, the Secretary has the authority to confirm, approve and place into effect power and transmission rates for the Western Area Power Administration (Western). Existing rates are normally extended by the Deputy Secretary under Delegation Order Nos. 00-037.00, approved December 6, 2001, and 00-001.00A, approved September 17, 2002. As the nominee for Deputy Secretary has not yet been confirmed by the Senate, I have extended the rates through March 31, 2006.

Pursuant to applicable Delegation Orders and existing DOE procedures for public participation in power and transmission rate adjustments in 10 CFR part 903, Western's rate methodology for network integration transmission and ancillary services was submitted to the Federal Energy Regulatory Commission (Commission) for confirmation and approval on May 3, 1999, as supplemented on May 21, 1999. On January 20, 2000, in Docket No. EF99-5041-000, at 90 FERC 62,032, the Commission issued an order confirming, approving, and placing in effect on a final basis Western's rate schedules for transmission and ancillary services from Western's Desert Southwest Customer Service Region. Rate Order No. WAPA-84 was approved for a 5-year period, beginning April 1, 1999, and ending March 31, 2004. On March 22, 2004, the Deputy Secretary of Energy extended the rates until March 31, 2005, under Rate Order No. WAPA-112.

Western has entered into a public process proposing a MSTR for cost recovery purposes for the P-DP, the Intertie, and the Central Arizona Project. That process has been extended to evaluate comments received during the comment period. The rate order for network transmission and ancillary services must be able to accommodate the modifications in the MSTR. Western believes that the additional time afforded by extending the rate for network integration transmission and ancillary services will allow Western to design these rates to ensure cost recovery regardless of the transmission rate methodology which the public process yields.

Western's existing formulary network integration transmission and ancillary service schedules, which are recalculated annually, would sufficiently recover project expenses (including interest) and capital requirements through March 31, 2006.

Following review of Western's proposal within the DOE, I approve Rate Order No. WAPA-121, which extends the existing Network Integration Transmission and Ancillary Services Rates through March 31, 2006.

Dated: March 14, 2005.
Samuel W. Bodman,
Secretary.

Order Confirming and Approving an Extension of the Desert Southwest Customer Service Region Network Integration Transmission and Ancillary Services Rates

These service rate methodologies were established following section 302 of the Department of Energy (DOE) Organization Act, (42 U.S.C. 7152). This Act transferred to and vested in the Secretary of Energy (Secretary) the power marketing functions of the Secretary of the Department of the Interior and the Bureau of Reclamation under the Reclamation Act of 1902 (ch. 1093, 32 Stat. 388), as amended and supplemented by subsequent enactments, particularly section 9(c) of the Reclamation Project Act of 1939 (43 U.S.C. 485h(c)), and other Acts that specifically apply to the project system involved.

Under the Department of Energy Organization Act, the Secretary has the authority to confirm, approve and place into effect power and transmission rates for the Western Area Power Administration (Western).

Background

The existing rate, Rate Order No. WAPA-84, was approved for 5 years, beginning April 1, 1999, and ending March 31, 2004. On March 22, 2004, the Deputy Secretary of Energy extended the rates under 10 CFR 903.23(b) until March 31, 2005, under Rate Order No. WAPA-112.

Discussion

Western has entered into a public process proposing an MSTR for cost recovery purposes for the P-DP, the Intertie, and the Central Arizona Project. That process has been extended to evaluate comments received during the comment period. The rate order for network transmission and ancillary services must be able to accommodate the modifications in the MSTR. Western believes that the additional time afforded by extending the rate for network integration transmission and ancillary services will allow Western to develop these rates to facilitate cost recovery.

Therefore, time requirements make it necessary to extend the current rates. Upon its approval, Rate Order No. WAPA-112 will be extended under Rate Order No. WAPA-121.

Order

In view of the above, I hereby extend for a period effective from April 1, 2005, and ending March 31, 2006, the existing Ancillary Rate Schedules DSW-SD1, DSW-RS1, DSW-FR1, DSW-EI1, DSW-SPR1, DSW-SUR1, and the existing network integration transmission rate schedules PD-NTS1, and INT-NTS1.

Dated: March 14, 2005.
Samuel W. Bodman,
Secretary.

[FR Doc. 05-6035 Filed 3-25-05; 8:45 am]

BILLING CODE 6450-01-P